ENVIRONMENTAL PROTECTION AGENCY

[ER-FRL-6685-2]

Environmental Impacts Statements; Notice of Availability

Responsible Agency: Office of Federal Activities, General Information (202) 564-7167 or http://www.epa.gov/compliance/nepa/.

Weekly receipt of Environmental Impact Statements filed 3/12/2007 through 3/16/2007 pursuant to 40 CFR 1506.9.

EIS No. 20070099, Final EIS, SFW, CA, San Joaquin Valley Operations and Maintenance Program Habitat Conservation Plan, Application for Incidental Take Permits, San Joaquin, Stanislaus, Merced, Fresno, Kings, Kern Mariposa, Madera and Tulare Counties, CA, Wait Period Ends: 4/23/2007, Contact: Lori Rinek, 916-414-6600.

EIS No. 20070100, Final EIS, AFS, UT, West Bear Vegetation Management Project, Timber Harvesting, Prescribed Burning, Roads Construction, Township 1 North, Range 9 East, Salt Lake Principle Meridian, Evanston Ranger District, Wasatch-Cache National Forest, Summit County, UT, Wait Period Ends: 4/23/2007, Contact: Larry Johnson, 307-789-3194.

EIS No. 20070101, Final EIS, FHW, IN, US-31 Kokomo Corridor Project, Preferred Alternative is J, Transportation Improvement between IN-26 and US 35 Northern Junction, City of Kokomo and Center Township, Howard and Tipton Counties, IN, Wait Period Ends: 4/23/2007, Contact: Larry Heil, 317-226-7480.

EIS No. 20070102, Final Supplement, COE, NM, PROGRAMMATIC—Fort Bliss Texas and New Mexico Mission and Master Plan, To Modify Current Land Use, El Paso, TX and Dona Ana and Otero Counties, NM, Wait Period Ends: 4/23/2007, Contact: John Barrera, 915-568-3908.

EIS No. 20070103, Draft EIS, FHW, NY, Kosciuszko Bridge Project, Propose Rehabilitation or Replacement a 1.1 mile Segment Brooklyn-Queens Expressway (-278) from Morgan Avenue in Brooklyn and the Long Island Expressway (1495) in Queens, Kings and Queens Counties, NY, Comment Period Ends: 5/25/2007, Contact: Robert Arnold, 518-431-4127.

EIS No. 20070104, Draft EIS, AFS, CO, Deer Creek Shaft and E Seam Methane Drainage Wells Project, Construct, Operate and Reclaim up to 137 Methane Drainage Well, Federal Coal lease, Paonia Ranger District, Grand Mesa, Uncompahgre and Gunnison National Forests, Delta and Gunnison Counties, CO, Comment Period Ends: 5/7/2007. Contact: Niccole Mortenson, 970-874-6616.

EIS No. 20070105, Draft EIS, USA, MD, Fort George G. Meade Base Realignment and Closure 2005 and Enhanced Use Lease (EUL) Actions, Implementation, Anne Arundel, Howard, Montgomery, Prince George's Counties, MD, Comment Period Ends: 5/7/2007, Contact: Karen Wilson, 703-602-2861.

EIS No. 20070106, Final EIS, FRC, 00, Rockies Express Western Phase Project, Construction and Operation for the Natural Gas Pipeline Facilities: Rockies Express (CP06-354-000), TransColorado (CP06-401-000) and Overthrust (CP06-423-000), CO, WY, NE, KS, MO and NM, Wait Period Ends: 4/23/2007, Contact: David Swearingen, 202-502-6173.

EIS No. 20070107, Final EIS, USA, TX, Fort Sam Houston, Texas Project, Base Realignment and Closure (BRAC) Actions and Other Transformation Activities, Implementation, City of Sam Antonio, TX, Wait Period Ends: 4/23/2007, Contact: Karen Wilson, 703-602-2861.

Amended Notices

EIS No. 20070089, Draft EIS, MMS, 00,PROGRAMMATIC—Alternative Energy Development and Production and Alternate Use of Facilities on the Outer Continental Shelf, Implementation, Atlantic, Gulf of Mexico, Pacific and Alaska, Comment Period Ends: 5/21/2007, Contact: Mary Boatman, 703-787-1662.

Revision FR Notice Published 3/23/2007: Extending Comment Period from 5/15/2007 to 5/21/2007.

Dated: March 20, 2007.
Robert W. Hargrove,
Director, NEPA Compliance Division, Office of Federal Activities.

[FR Doc. E7-5354 Filed 3-22-07; 8:45 am]

BILLING CODE 6560-50-P